DEPARTMENT OF AGRICULTURE

Agricultural Marketing Service

7 CFR Part 1209

[Document Number AMS-FV-09-0019; FV-09-703]

Mushroom Promotion, Research, and Consumer Information Order

AGENCY: Agricultural Marketing Service, USDA.

ACTION: Final rule; correcting amendment.

SUMMARY: The Agricultural Marketing Service (AMS) published a final rule in the Federal Register on July 20, 1992, on the Mushroom Promotion, Research, and Consumer Information Order (Order) referendum procedures. This rule established procedures for the conduct of a referendum to determine if producers and importers favored implementation of the Order. The procedures also apply to any subsequent referenda to amend, continue, or terminate the Order. As written, language to amend, suspend, or terminate the program was inadvertently omitted from the procedures. This document corrects that omission.

DATES: Effective Date: April 24, 2009.

FOR FURTHER INFORMATION CONTACT: Jeanette Palmer, Marketing Specialist, Research and Promotion Branch, Fruit and Vegetable Programs, AMS, U.S. Department of Agriculture, 1400 Independence Avenue, SW., Room 0632, Stop 0244, Washington, DC 20250-0244; telephone: (202) 720-9915 or (888) 720-9917 (toll free); or facsimile: (202) 205-2800; or e-mail: Jeanette.Palmer@ams.usda.gov.

SUPPLEMENTARY INFORMATION: This document corrects 7 CFR part 1209 by incorporating the words amendments, suspension, or termination for referendum procedures in the Order.

List of Subjects in 7 CFR Part 1209

Administrative practice and procedure, Advertising, Consumer information, Marketing agreements, Mushroom promotion, Reporting and recordkeeping requirements.

Accordingly, 7 CFR part 1209 is amended by making the following correcting amendment:

PART 1209—MUSHROOM PROMOTION, RESEARCH, AND CONSUMER INFORMATION ORDER

Subpart C—Procedure for the Conduct of Referenda in Connection With the Mushroom Promotion, Research, and Consumer Information Order

1. The authority citation for 7 CFR part 1209 continues to read as follows:

Authority: 7 U.S.C. 6101-6112; 7 U.S.C. 7401.

2. Revise § 1209.300 to read as follows:

§ 1209.300 General.

A referendum to determine whether eligible producers and importers favor the amendment, continuation, suspension, or termination of the Mushroom Promotion, Research, and Consumer Information Order shall be conducted in accordance with these procedures.

Dated: April 17, 2009.
Robert C. Keeney,
Acting Associate Administrator.

[FR Doc. E9-9290 Filed 4-22-09; 8:45 am]

BILLING CODE 3410-02-P